Proclamation 9715 of March 29, 2018

National Donate Life Month, 2018

By the President of the United States of America

A Proclamation

Americans celebrate the blessing of life in many ways, but perhaps none is more transformative than their choice to donate organs or tissue to family members, friends, or to people they may not ever meet. During National Donate Life Month, we honor our Nation's organ and tissue donors for their decision to give the precious gift of life to someone in need. We also give thanks to the many remarkable medical professionals, scientists, and researchers who have dedicated themselves to improving the health of others.

My Administration supports efforts to raise awareness about the life-saving power of organ donation. The Organ Procurement and Transplantation Network reports that, in 2017, there were nearly 35,000 transplants performed, a 3.4 percent increase from 2016, and the fifth consecutive record-setting year for transplants in the United States. Last year, more than 16,000 living and deceased individuals donated the gift of life to someone in need through an organ or tissue donation.

Every person, regardless of gender, age, race, ethnicity, or economic status, has the power and the potential to transform a life through organ and tissue donation. Despite record setting years, we are still working to overcome a gap between the availability of organs and people in need of an organ donation. Today, nearly 115,000 Americans are awaiting a lifesaving transplant, and a new name appears on the national transplant waiting list every 10 minutes. Amazingly, 1 donor can save up to 8 lives through organ donation and enhance the lives of up to 50 people through tissue donation. This month, I encourage all Americans to consider participating in the gift of life by becoming organ and tissue donors.

NOW, THEREFORE, I, DONALD J. TRUMP, President of the United States of America, by virtue of the authority vested in me by the Constitution and the laws of the United States, do hereby proclaim April 2018 as National Donate Life Month. I call upon health professionals, volunteers, educators, government agencies, faith-based and community groups, and private organizations to help raise awareness of the urgent need for organ and tissue donors throughout our Nation.

IN WITNESS WHEREOF, I have hereunto set my hand this twenty-ninth day of March, in the year of our Lord two thousand eighteen, and of the Independence of the United States of America the two hundred and forty-second.

[FR Doc. 2018-06923

Filed 4-2-18; 11:15 am]

Billing code 3295-F8-P